DEPARTMENT OF TRANSPORTATION

Federal Motor Carrier Safety Administration

Notice of Fiscal Year 2013 Safety Grants and Solicitation for Applications

AGENCY: Federal Motor Carrier Safety Administration (FMCSA), DOT.

ACTION: Notice; change in application due dates.

SUMMARY: This notice informs the public of FMCSA's Fiscal Year (FY) 2013 safety grant opportunities and FMCSA's projected application due dates. FMCSA announces these grant opportunities based on authorities provided for in the Safe, Accountable, Flexible, Efficient Transportation Equity Act: A Legacy for Users (SAFETEA-LU), Public Law 109-59, as amended by the Moving Ahead for Progress in the 21st Century Act (MAP-21), Public Law 112-141, (2012). The Agency's safety grant programs in FY 2013 include the Motor Carrier Safety Assistance Program (MCSAP) Basic and Incentive grants; New Entrant Safety Audit grants; MCSAP High Priority grants; Commercial Motor Vehicle (CMV) Operator Safety Training grants; Border Enforcement grants (BEG); Commercial Driver's License Program Improvement (CDLPI) grants; Performance and Registration Information Systems Management (PRISM) grants; Safety Data Improvement Program (SaDIP) grants; and the Commercial Vehicle Information Systems and Networks (CVISN) grants. The Commercial Driver's License Information System (CDLIS) Modernization grants were not continued in the MAP-21 authorization and, therefore, FMCSA will not be soliciting applications for this grant program in FY 2013.

FOR FURTHER INFORMATION CONTACT: Please contact the following FMCSA staff with questions or needed information on the Agency's grant programs:

MCSAP Basic/Incentive Grants—Jack Kostelnik, jack.kostelnik@dot.gov, 202-366-5721.

New Entrant Safety Audits Grants—Jack Kostelnik, jack.kostelnik@dot.gov, 202-366-5721.

MCSAP High Priority Grants—Cim Weiss, cim.weiss@dot.gov, 202-366-0275.

CMV Operator Safety Training Grants—Crystal Polk, crystal.polk@dot.gov, 202-366-0734.

BEG—Jackie Cambridge, jackie.cambridge@dot.gov, 202-366-1351.

CDLPI Grants—James Ross, james.ross@dot.gov, 202-366-0133.

SaDIP Grants—Jackie Cambridge, jackie.cambridge@dot.gov, 202-366-1351.

PRISM Grants—Julie Otto, julie.otto@dot.gov, 202-366-0710.

CVISN Grants—Julie Otto, julie.otto@dot.gov, 202-366-0710.

All staff may be reached at FMCSA, 1200 New Jersey Avenue SE., Washington, DC 20590. Office hours are from 9 a.m. to 5 p.m., Eastern Time, Monday through Friday, except Federal holidays.

SUPPLEMENTARY INFORMATION:

Background and Purpose

For each grant program, FMCSA will post a notice of funding availability (NOFA) at www.grants.gov. The NOFA will provide specific information on the application process; national funding priorities for FY 2013; evaluation criteria; required documents and certifications; grantee matching share and maintenance of expenditure requirements; and additional information related to the availability of funds. General information is provided below for each individual grant program.

To ensure the timely review and award of all grants, applications must be submitted in accordance with the instructions provided in each NOFA and contain all required information and attachments. FMCSA strongly encourages applicants to dedicate the resources necessary to submit timely and complete applications. Applications will be returned if required documents are missing or incomplete or additional information is needed.

MCSAP Basic and Incentive Grants

The Safe, Accountable, Flexible, Efficient Transportation Equity Act: A Legacy for Users, Public Law 109-59, §§ 4101(a), 4106, 119 Stat. 1144, 1714, 1717-19 (2005), as amended by Moving Ahead for Progress in the 21st Century Act, Public Law 112-141 §§ 32601, 32603(a), (2012) authorizes FMCSA's Motor Carrier Safety Grants. MCSAP Basic and Incentive formula grants are governed by 49 U.S.C. 31102-31104 and 49 CFR Part 350. Under the Basic and Incentive grant programs, a State lead MCSAP agency, as designated by its Governor, is eligible to apply for MCSAP Basic and Incentive grant funding by submitting a commercial vehicle safety plan (CVSP). See 49 CFR 350.201, 350.205, and 350.213. Pursuant to 49 U.S.C. 31103 and 49 CFR 350.303, FMCSA will reimburse each lead State MCSAP agency no more than 80 percent of eligible costs incurred in a fiscal year. Each State will provide a 20 percent match to qualify for the program. The FMCSA Administrator waives the requirement for matching funds for the Virgin Islands, American Samoa, Guam, and the Commonwealth of the Northern Mariana Islands (49 CFR 350.305). In accordance with 49 CFR 350.323, the MCSAP Basic grant funds will be distributed proportionally to each State's lead MCSAP agency using the following four, equally weighted (25 percent) factors:

(1) 1997 road miles (all highways) as defined by the FMCSA;

(2) All vehicle miles traveled as defined by the FMCSA;

(3) Population—annual census estimates as issued by the U.S. Census Bureau; and

(4) Special fuel consumption (net after reciprocity adjustment) as defined by the FMCSA.

A State's lead MCSAP agency may qualify for MCSAP Incentive funds pursuant to 49 CFR 350.327(a) if the agency can demonstrate that the State's CMV safety program meets or exceeds any or all of the following five categories:

(1) Reduction in the number of large truck-involved fatal crashes;

(2) Reduction in the rate of large-truck-involved fatal crashes or maintenance of a large-truck-involved fatal crash rate that is among the lowest 10 percent of such rates for MCSAP recipients;

(3) Upload of CMV crash reports in accordance with current FMCSA policy guidelines;

(4) Verification of Commercial Driver's Licenses during all roadside inspections; and

(5) Upload of CMV inspection data in accordance with current FMCSA policy guidelines.

Incentive funds are distributed in accordance with 49 CFR 350.327(b).

The FMCSA calculates the amount of Basic and Incentive funding each State is to receive. This information is provided to the States and is made available on the Agency's Web site. The projected FY 2013 distribution is available at http://www.fmcsa.dot.gov/safety-security/safety-initiatives/mcsap/mcsapforms.htm. The amount indicated is based on FY 2012 estimated awards, pending final authorization, and does not include incentive funding that may be available to States. The MCSAP Basic and Incentive formula grants are awarded based on the State's submission of the CVSP, which FMCSA must approve prior to distribution of funds. Therefore, the evaluation factors for discretionary grant programs described in the section below titled “Application Information for FY 2013 Grants” are not applicable. MCSAP Basic and Incentive grant applications must be submitted electronically through grants.gov (http://www.grants.gov).

New Entrant Safety Audit Grants

The Safe, Accountable, Flexible, Efficient Transportation Equity Act: A Legacy for Users, Public Law 109-59, § 4107(b), 119 Stat. 1144, 1720 (2005), amended by SAFETEA-LU Technical Corrections Act of 2008, Public Law 110-244, § 301(b), 122 Stat. 1572, 1616 (2008), as amended by Moving Ahead for Progress in the 21st Century Act, Public Law 112-141, § 32603(e), (2012) authorizes grant funding to conduct interstate New Entrant safety audits consistent with 49 CFR Parts 350.321 and 385.301. Eligible recipients are State and local governments. The goal of the New Entrant Safety Assurance Program is to reduce CMV involved crashes, fatalities, and injuries through consistent, uniform, and effective safety programs. Grantees may use these funds for salaries and related expenses of New Entrant auditors, including training and equipment, and to perform other eligible activities that are directly related to conducting safety audits. The FMCSA's share of these grant funds will be 100 percent pursuant to 49 U.S.C. 31144. More information about the New Entrant Safety Assurance Program application and award process can be found at http://www.fmcsa.dot.gov/about/grants/New-Entrant/app-process.aspx. New Entrant grant applications must be submitted electronically through grants.gov (http://www.grants.gov).

MCSAP High Priority Grants

The Safe, Accountable, Flexible, Efficient Transportation Equity Act: A Legacy for Users, Public Law 109-59, § 4107(a), 119 Stat. 1144, 1719-20 (2005), as amended by SAFETEA-LU Technical Corrections Act of 2008, Public Law 110-244, § 4101(a), § 4107, 122 Stat. 1572, 1616, as amended by Moving Ahead for Progress in the 21st Century Act, Public Law 112-141, §§ 32603(a), 32603(d), (2012) authorizes grant funding for activities and projects that improve CMV safety and compliance with CMV regulations. The goal of the MCSAP High Priority grant program is to increase public awareness and education, demonstrate new technologies and reduce the number and rate of CMV crashes. Funding is also available for projects that are national in scope. Eligible recipients are State agencies, local governments, and organizations representing government agencies that use and train qualified officers and employees in coordination with State motor vehicle safety agencies. Participation of local law enforcement agencies is encouraged. Interested local law enforcement agencies should carefully review the NOFA when it is available on www.grants.gov for special considerations and application review processes. For grants awarded for public education and outreach activities, the Federal share will be 100 percent. For all other High Priority grants, FMCSA will provide reimbursements for no more than 80 percent of all eligible costs, and recipients will be required to provide a 20 percent match. Examples of High Priority activities include innovative traffic enforcement projects, with particular emphasis on texting and hand-held cell phone prohibitions, work zone enforcement, rural road safety, and innovative traffic enforcement initiatives such as Ticketing Aggressive Cars and Trucks (TACT). TACT provides a research-based safety model that can be replicated by States when conducting a high-visibility traffic enforcement program to promote safe driving behaviors among car and truck drivers. The objective of this program is to reduce the number of commercial truck and bus-related crashes, fatalities and injuries resulting from improper operation of motor vehicles and aggressive driving behavior. More information regarding TACT can be found at http://www.fmcsa.dot.gov/safety-security/tact/abouttact.htm. More information about the High Priority application and award process can be found at http://www.fmcsa.dot.gov/about/grants/MCSAP-High-Priority/index.aspx. High Priority grant applications must be submitted through grants.gov (http://www.grants.gov).

CMV Operator Safety Training Grants

The Safe, Accountable, Flexible, Efficient Transportation Equity Act: A Legacy for Users, Public Law 109-59, § 4134, 119 Stat. 1144, 1744-45 (2005), as amended by Moving Ahead for Progress in the 21st Century Act, Public Law 112-141, § 32603(g), (2012) authorizes grant funds to train current and future drivers in the safe operation of CMVs, as defined in 49 U.S.C. 31301(4). Eligible awardees include State governments, local governments and accredited post-secondary educational institutions (public or private) such as colleges, universities, vocational-technical schools and truck driver training schools. Funding priority for this discretionary grant program will be given to institutions serving economically distressed regions of the United States as demonstrated in the application. The Federal share of these funds will be 80 percent, and recipients will be required to provide a 20 percent match. More information about the CMV Operator Safety Training grant application and award process can be found at http://www.fmcsa.dot.gov/about/grants/CMV/app-process.aspx. CMV Operator Safety Training grant applications must be submitted electronically through grants.gov (http://www.grants.gov).

Border Enforcement Grants

The Safe, Accountable, Flexible, Efficient Transportation Equity Act: A Legacy for Users, Public Law 109-59, §§ 4101(c)(2), 4110, 119 Stat. 1144, 1715, 1721-22 (2005), as amended by Moving Ahead for Progress in the 21st Century Act, Public Law 112-141, §§ 32603(c) and 32603(h), (2012) authorizes grant funds to conduct CMV safety programs and related enforcement activities and projects near international borders or relating to international commerce. Pursuant to 49 U.S.C. 31107, eligible awardees include State governments that share a land border with Canada or Mexico, and any local government, or entities (i.e., accredited post-secondary public or private educational institutions such as universities) in that State. FMCSA encourages local agencies to coordinate their application with the State lead CMV inspection agency to prevent redundancy. Applications must include a Border Enforcement Plan. As established by SAFETEA-LU, the Federal share of these funds will be 100 percent. More information about the BEG application and award process can be found at http://www.fmcsa.dot.gov/about/grants/beg/app-process.aspx. BEG grant applications must be submitted electronically through grants.gov (http://www.grants.gov).

CDLPI Grants

The Safe, Accountable, Flexible, Efficient Transportation Equity Act: A Legacy for Users, Public Law 109-59, §§ 4101(c)(1), 4124, 119 Stat. 1144, 1715, 1736-37 (2005), as amended by Moving Ahead for Progress in the 21st Century Act, Public Law 112-141, §§ 32603(c), 32604, (2012) authorizes grant funds to improve States' implementation of the Commercial Driver's License (CDL) program and ensure compliance with the requirements of 49 CFR Part 383 and 384. Eligible expenses include computer hardware and software, publications, testing, personnel, training, quality control, CDL program coordinators, and to implement or maintain an employer notification system for CDL suspension or revocation. Pursuant to 49 U.S.C. 31313, funds may not be used to rent, lease, or buy land or buildings. The agency designated by each State as having the primary driver licensing responsibility, including development, implementation, and maintenance of the CDL program, is eligible to apply for basic grant funding. State agencies, local governments, and other entities that can support a State's effort to improve its CDL program, or conduct projects on a national scale to improve the national CDL program, may also apply for projects under the High Priority and Emerging Issues component of this grant. Priority will be given to proposals that help States comply with the Federal Motor Carrier Safety Regulations (FMCSR), with specific emphasis on correcting previously-identified areas of non-compliance. The Federal share of funds for projects awarded under this grant is established by SAFETEA-LU as 100 percent. Information for the CLDPI application and award process also can be found at http://www.fmcsa.dot.gov/about/grants/CDLPI/app-process.aspx. CLDPI grant applications must be submitted electronically through grants.gov (http://www.grants.gov).

SaDIP Grants

The Safe, Accountable, Flexible, Efficient Transportation Equity Act: A Legacy for Users, Public Law 109-59, §§ 4101(c)(5), 4128, 119 Stat. 1144, 1715, 1742 (2005), as amended by Moving Ahead for Progress in the 21st Century Act, Public Law 112-141, § 32603(c), (2012) authorizes grant funds for the Safety Data Improvement Program to support improving the overall quality of CMV data reported by a State. Specifically, the goal of this program is to improve the timeliness, efficiency, accuracy and completeness of State processes and systems used to collect, analyze and report large truck and bus crash and inspection data, as described 49 USC 31102. Eligible recipients are State agencies, including the Territories of Puerto Rico, Guam, American Samoa, the Northern Marianas, and the U.S. Virgin Islands, and the District of Columbia. SaDIP applications must address the FMCSA State Safety Data Quality (SSDQ) map, which provides a color-coded, pictorial representation of the State's overall performance using the SSDQ methodology. This methodology was developed by FMCSA to evaluate the completeness, timeliness, accuracy, and consistency of the State-reported CMV crash and inspection records in the Motor Carrier Management Information System (MCMIS). The SSDQ methodology is comprised of nine measures and one Overriding Indicator. Ratings are updated quarterly, and individual State performance is portrayed through the color-coded rating system: Green (good performance), Yellow (fair performance), and Red (poor performance). The color-coded rating system depicts each State's Overall Rating which considers all nine SSDQ measures, except those measures with a rating of “Insufficient Data,” plus the Overriding Indicator. Priority will be given to proposals received from States rated Yellow and Red on the SSDQ Map. The applicant must certify that it has (1) conducted a comprehensive audit of its commercial motor vehicle safety data system within the preceding two years; (2) developed a plan that identifies and prioritizes its commercial motor vehicle safety data needs and goals; and (3) identified performance-based measures to determine progress toward those goals. The FMCSA will provide reimbursements for no more than 80 percent of all eligible costs; recipients are required to provide a 20 percent match. More information about the SaDIP application and award process can be found at http://www.fmcsa.dot.gov/about/grants/SaDIP/app-process.aspx. SaDIP grant applications must be submitted electronically through grants.gov (http://www.grants.gov).

PRISM Grants

The Safe, Accountable, Flexible, Efficient Transportation Equity Act: A Legacy for Users, Public Law 109-59, §§ 4101(c)(3), 4109, 119 Stat. 1144, 1715, 1720-21 (2005), as amended by Moving Ahead for Progress in the 21st Century Act, Public Law 112-141, §§ 32602, 32603(c), (2012) authorizes FMCSA to award grants funds to States to implement the PRISM requirements that link Federal motor carrier safety information systems with State CMV registration and licensing systems. This program enables a State to determine the safety fitness of a motor carrier, a registrant, or both, when licensing or registering CMV and while the license or registration is in effect. The PRISM program directly benefits highway safety helping to remove unsafe motor carriers from the nation's highways through the potential and actual imposition of vehicle registration sanctions on motor carriers issued a Federal Out of Service order. No matching funds are required. More information about the PRISM program process can be found at http://www.fmcsa.dot.gov/safety-security/prism/prism-process.aspx. PRISM grant applications must be submitted electronically through grants.gov (http://www.grants.gov).

CVISN Grants

The Safe, Accountable, Flexible, Efficient Transportation Equity Act: A Legacy for Users, Public Law 109-59, §§ 4101(c)(4), 4126, 119 Stat. 1144, 1715, 1738-41 (2005), as amended by Moving Ahead for Progress in the 21st Century Act, Public Law No.112-141, §§ 32603(c), 32605, (2012) authorizes FMCSA to award grant funds to States to deploy, operate, and maintain elements of their CVISN Program, including commercial vehicle, commercial driver, and carrier-specific information systems and networks. The agency in each State designated as responsible for the development, implementation, and maintenance of a CVISN-related system is eligible to apply for grant funding. Section 4126 of SAFETEA-LU establishes two types of CVISN projects: Core and Expanded. Core CVISN deployment project(s) eligibility includes the projects necessary to support the State's most current Core CVISN Program Plan and Top-Level Design (PP/TLD) approved by FMCSA. If a State does not have a Core CVISN PP/TLD, it may apply for up to $100,000 in funds to either create or update one. A State may also apply for funds to prepare an Expanded CVISN PP/TLD if FMCSA acknowledged the State as having completed Core CVISN deployment. Eligibility includes the projects necessary to support a State's Expanded CVISN deployment PP/TLD approved by FMCSA. If a State does not have an existing or up-to-date Expanded CVISN PP/TLD, it may apply for up to $100,000 in funds to either compile or update an Expanded CVISN Program Plan and Top-Level Design.

FY 2013 CVISN grant emphasis areas include to increase the deployment of the Commercial Vehicle Information Exchange Window (CVIEW); improve the quality of data uploads; and improve the use of safety and productivity performance metrics. A State may receive no more than an aggregate total of $2.5M in CVISN Core funding. A State may receive no more than $1M in CVISN Expanded funding in any fiscal year. Awards for approved CVISN grant applications are made to all Core CVISN applicants first and then to Expanded CVISN applicants. States must provide a match of 50 percent. CVISN grant applications must be submitted electronically through grants.gov (http://www.grants.gov).

Application Information for FY 2013 Grants: General information about the FMCSA grant programs is available in the Catalog of Federal Domestic Assistance (CFDA) which can be found on the internet at http://www.cfda.gov. To apply for funding, applicants must register with grants.gov at http://www.grants.gov/applicants/get_registered.jsp and submit an application in accordance with instructions provided. Because the registration and certification process for grants.gov requires several steps, first-time applicants are strongly encouraged to begin the process well in advance of the application deadline.

Evaluation Factors: The below evaluation factors will be used in reviewing the applications for all FMCSA discretionary grants. Additional factors may be included in each NOFA. These factors are:

(1) Prior performance (completion of identified programs and goals per the project plan submitted under previous grants awarded to the applicant);

(2) Effective Use of Prior Grants (timely use of available funds in previous awards);

(3) Safety and Cost Effectiveness (expected impact on safety relative to the investment of grant funds; where appropriate, cost per unit was calculated and compared with national averages to determine effectiveness; in other areas, proposed costs are compared with historical information to confirm reasonableness);

(4) Applicability to announced priorities (grant applications that specifically address these issues are given priority consideration);

(5) Ability of the applicant to support the strategies and activities in the proposal for the entire project period of performance;

(6) Use of innovative approaches in executing a project plan to address identified safety issues;

(7) Feasibility of overall program coordination and implementation based upon the project plan; and

(8) Other objective and performance-based criteria that FMCSA deems appropriate, such as consistency with national priorities, overall program balance, and geographic diversity.

Estimated Application Due Dates: For the following grant programs, FMCSA will consider funding complete applications or plans submitted by the following anticipated dates (final due dates will be indicated in the grants.gov funding opportunity notice):

MCSAP Basic and Incentive Grants—August 1, 2012.

Border Enforcement Grants—August 20, 2012.

New Entrant Safety Audit Grants—September 5, 2012.

MCSAP High Priority Grants—September 17, 2012.

CDLPI Grants—November 5, 2012.

SaDIP Grants—November 13, 2012.

CVISN Grants—November 19, 2012.

PRISM Grants—December 3, 2012.

CMV Operator Safety Training Grants—December 10, 2012.

Applications submitted after due dates may be considered on a case-by-case basis and are subject to availability of funds.

Issued on: July 27, 2012.
William A. Quade,
Associate Administrator for Enforcement and Program Delivery.

[FR Doc. 2012-19109 Filed 8-3-12; 8:45 am]

BILLING CODE 4910-EX-P